DEPARTMENT OF ENERGY

Federal Energy Regulatory Commission

Combined Notice of Filings #1

September 12, 2007.

Take notice that the Commission received the following electric corporate filings:

Docket Numbers: EC06-166-001.

Applicants: Legg Mason, Inc.

Description: Legg Mason, Inc. submits its Second Amended and Restated Request for Blanket Authorization to Acquire Securities under Section 203 of the Federal Power Act.

Filed Date: 09/10/2007.

Accession Number: 20070912-0070.

Comment Date: 5 p.m. Eastern Time on Thursday, September 20, 2007.

Take notice that the Commission received the following exempt wholesale generator filings:

Docket Numbers: EG07-79-000.

Applicants: NRG Texas Power, LLC.

Description: NRG Texas Power, LLC. Notice of Self Certification of Exempt Wholesale Generator Status.

Filed Date: 08/31/2007.

Accession Number: 20070831-5087.

Comment Date: 5 p.m. Eastern Time on Friday, September 21, 2007.

Docket Numbers: EG07-80-000.

Applicants: NRG Cedar Bayou Development Company, LLC.

Description: NRG Cedar Bayou Development Company, LLC. submits its Notice of Self-Certification of Exempt Wholesale Generator Status.

Filed Date: 09/07/2007.

Accession Number: 20070907-5079.

Comment Date: 5 p.m. Eastern Time on Friday, September 28, 2007.

Take notice that the Commission received the following electric rate filings:

Docket Numbers: ER97-324-010; ER97-3834-016.

Applicants: Detroit Edison Company; DTE Energy Trading, Inc.

Description: The Detroit Edison Co. and DTE Energy Trading, Inc. submits amendments to their market-based rate tariffs in compliance with the Commission's Order 697.

Filed Date: 09/04/2007.

Accession Number: 20070907-0052.

Comment Date: 5 p.m. Eastern Time on Tuesday, September 25, 2007.

Docket Numbers: ER98-1150-010; ER07-964-001.

Applicants: Tucson Electric Power Company; UNS Electric, Inc.

Description: Tucson Electric Power Company and UNS Electric, Inc. submit amendments to their market-based rate tariffs in compliance with Order 697.

Filed Date: 09/07/2007.

Accession Number: 20070910-0126.

Comment Date: 5 p.m. Eastern Time on Wednesday, September 19, 2007.

Docket Numbers: ER00-3614-006; ER06-1351-001.

Applicants: BP Energy Company; BP West Coast Products, LLC.

Description: BP Energy Company et al submit a Notice of Change in Status with respect to its market-based rate wholesale power sales authority.

Filed Date: 09/06/2007.

Accession Number: 20070910-0160.

Comment Date: 5 p.m. Eastern Time on Thursday, September 27, 2007.

Docket Numbers: ER02-2330-048.

Applicants: New England Power Pool.

Description: ISO New England Inc. submits report in compliance with FERC's 9/20/02 order.

Filed Date: 09/10/2007.

Accession Number: 20070912-0066.

Comment Date: 5 p.m. Eastern Time on Monday, October 01, 2007.

Docket Numbers: ER03-647-010.

Applicants: New York Independent System Operator, Inc.

Description: Response of the New York Independent System Operator, Inc. to Comments on the ICAP Demand Curve Compliance Filing.

Filed Date: 09/07/2007.

Accession Number: 20070907-5093.

Comment Date: 5 p.m. Eastern Time on Friday, September 28, 2007.

Docket Numbers: ER05-522-005.

Applicants: Bluegrass Generation Company, LLC.

Description: Bluegrass Generation Company, LLC submits its Refund Report.

Filed Date: 08/31/2007.

Accession Number: 20070831-5011.

Comment Date: 5 p.m. Eastern Time on Friday, September 21, 2007.

Docket Numbers: ER05-1232-005; ER05-283-006.

Applicants: JPMorgan Ventures Energy Corporation; JPMorgan Chase Bank, N.A.

Description: Notice of Non-Material Change in Status of JPMorgan Chase Bank, N.A., et al.

Filed Date: 09/11/2007.

Accession Number: 20070911-5050.

Comment Date: 5 p.m. Eastern Time on Tuesday, October 02, 2007

Docket Numbers: ER07-1022-001.

Applicants: Duke Energy Carolinas, LLC.

Description: Duke Energy Carolinas, LLC submits the Fifth Revised Volume 3 and Third Revised Volume 5 to comply with FERC's 8/7/07 Order and Order 697.

Filed Date: 09/06/2007.

Accession Number: 20070911-0061.

Comment Date: 5 p.m. Eastern Time on Thursday, September 27, 2007.

Docket Numbers: ER07-1263-001.

Applicants: High Sierra Power Marketing, LLC.

Description: High Sierra Power Marketing, LLC submits Substitute Original Sheets 2 and 3 to its FERC Electric Tariff, Original Volume 1 pursuant to Order 697 under ER07-1263.

Filed Date: 09/10/2007.

Accession Number: 20070912-0065.

Comment Date: 5 p.m. Eastern Time on Thursday, September 20, 2007.

Docket Numbers: ER07-1264-001.

Applicants: Sierra Power Asset Marketing, LLC.

Description: Sierra Power Asset Marketing, LLC submits Substitute Original Sheet 2 and 3 to FERC Electric Tariff, Original Volume 1 pursuant to Order 697.

Filed Date: 09/10/2007.

Accession Number: 20070912-0064.

Comment Date: 5 p.m. Eastern Time on Thursday, September 20, 2007.

Docket Numbers: ER07-1303-001.

Applicants: PS Energy Group, Inc.

Description: PS Energy Group, Inc. submits an amendment to its 8/23/07 filing of its Petition for Acceptance of Initial Tariff, etc. PS Energy Group, Inc. also amended this filing on 9/12/07.

Filed Date: 09/10/2007; 09/12/07.

Accession Number: 20070911-0060.

Comment Date: 5 p.m. Eastern Time on Wednesday, September 19, 2007.

Docket Numbers: ER07-1349-001.

Applicants: Cheyenne Light Fuel & Power Company.

Description: Cheyenne Light, Fuel and Power Co. requests that FERC accept the Test Power Rate Schedule effective as of 10/1/07.

Filed Date: 09/07/2007.

Accession Number: 20070911-0062.

Comment Date: 5 p.m. Eastern Time on Friday, September 28, 2007.

Docket Numbers: ER07-1351-000.

Applicants: York Generation Company, LLC.

Description: York Generation Co., LLC submits its Rate Schedule FERC 2 re charges and revenue requirements.

Filed Date: 09/05/2007.

Accession Number: 20070907-0051.

Comment Date: 5 p.m. Eastern Time on Wednesday, September 26, 2007.

Docket Numbers: ER07-1352-000.

Applicants: Pacific Gas and Electric Company.

Description: Pacific Gas & Electric Company submits document entitled “PG&E Wholesale Distribution Tariff-Service Agreement for Wholesale Distribution Service to Western Area Power Administration, etc.”

Filed Date: 09/07/2007.

Accession Number: 20070911-0066.

Comment Date: 5 p.m. Eastern Time on Friday, September 28, 2007.

Docket Numbers: ER07-1353-000.

Applicants: Vermont Transco, LLC.

Description: Vermont Electric Power Company, Inc. submits the Hydro-Quebec Participation Agreement, etc.

Filed Date: 09/07/2007.

Accession Number: 20070911-0067.

Comment Date: 5 p.m. Eastern Time on Friday, September 28, 2007.

Docket Numbers: ER07-1354-000.

Applicants: Vermont Electric Power Company, Inc.; Hydro-Québec Transénegie.

Description: Vermont Electric Power Co., Inc., et al., submit their final English-French translated version of the Highgate Asset Owners Agreement.

Filed Date: 09/07/2007.

Accession Number: 20070911-0059.

Comment Date: 5 p.m. Eastern Time on Friday, September 28, 2007.

Docket Numbers: ER07-1355-000.

Applicants: Avista Energy, Inc.

Description: Avista Energy, Inc. submits a Notice of Cancellation of its First Revised Rate Schedule FERC 1.

Filed Date: 09/07/2007.

Accession Number: 20070911-0058.

Comment Date: 5 p.m. Eastern Time on Friday, September 28, 2007.

Docket Numbers: ER07-1356-000.

Applicants: BE Alabama, LLC.

Description: BE Alabama, LLC submits a notification of succession and a change of name from BE Tenaska, LLC.

Filed Date: 09/07/2007.

Accession Number: 20070911-0057.

Comment Date: 5 p.m. Eastern Time on Friday, September 28, 2007.

Docket Numbers: ER07-1357-000.

Applicants: Glacial Holdings.

Description: Petition of Glacial Holdings for acceptance of Initial Rate Schedule, Waivers and Blanket Authority.

Filed Date: 09/07/2007.

Accession Number: 20070911-0056.

Comment Date: 5 p.m. Eastern Time on Friday, September 28, 2007.

Docket Numbers: ER07-1358-000.

Applicants: BE Louisiana, LLC.

Description: BE Louisiana, LLC submits a notification of succession and a change of name from BE Cleco, LLC.

Filed Date: 09/07/2007.

Accession Number: 20070911-0055.

Comment Date: 5 p.m. Eastern Time on Friday, September 28, 2007.

Docket Numbers: ER07-1359-000.

Applicants: Central Hudson Gas & Electric Corp.

Description: Central Hudson Gas & Electric Corp. submits Seventh Revised Sheet 9 et al to its Rate Schedule FERC 202.

Filed Date: 09/07/2007.

Accession Number: 20070911-0054.

Comment Date: 5 p.m. Eastern Time on Friday, September 28, 2007.

Docket Numbers: ER07-1360-000.

Applicants: Westar Energy, Inc.

Description: Westar Energy, Inc submits Service Agreement 206 to FERC Electric Tariff, Third Revised Volume 6 with the City of Alma, Kansas.

Filed Date: 09/10/2007.

Accession Number: 20070911-0053.

Comment Date: 5 p.m. Eastern Time on Monday, October 01, 2007.

Docket Numbers: ER07-1361-000.

Applicants: Westar Energy, Inc.

Description: Westar Energy, Inc submits Service Agreement 207 to FERC Electric Tariff, Third Revised Volume 6 with the City of Wathena, Kansas.

Filed Date: 09/10/2007.

Accession Number: 20070911-0052.

Comment Date: 5 p.m. Eastern Time on Monday, October 01, 2007.

Docket Numbers: ER07-1362-000.

Applicants: Southern California Edison Company.

Description: Southern California Edison submits a revised Amended and Restated Service Agreement for Wholesale Distribution Service.

Filed Date: 09/10/2007.

Accession Number: 20070911-0051.

Comment Date: 5 p.m. Eastern Time on Monday, October 01, 2007.

Docket Numbers: ER07-1363-000.

Applicants: Upper Peninsula Power Company.

Description: Upper Peninsula Power Co. submits a notice of termination and rate schedule sheet terminating the Emergency Capacity Sales Agreement with Escanaba Municipal Electric Utility.

Filed Date: 09/10/2007.

Accession Number: 20070911-0050.

Comment Date: 5 p.m. Eastern Time on Monday, October 01, 2007.

Docket Numbers: ER07-1364-000.

Applicants: American Electric Power Service Corp.

Description: American Electric Power Service Corp submits fully executed generation interconnection agreements between AEP Texas Central Company and Texas Gulf Wind, LLC.

Filed Date: 09/11/2007.

Accession Number: 20070912-0068.

Comment Date: 5 p.m. Eastern Time on Tuesday, October 02, 2007.

Take notice that the Commission received the following electric securities filings:

Docket Numbers: ES07-57-000.

Applicants: Northeast Utilities Service Company.

Description: Northeast Utilities Service Company submits its Application to Issue Securities pursuant to section 204 and on 9/10/07 submit a supplement to this filing.

Filed Date: 08/31/2007; 9/10/07.

Accession Number: 20070831-5054; 20070910-5007.

Comment Date: 5 p.m. Eastern Time on Friday, September 21, 2007.

Docket Numbers: ES07-59-000.

Applicants: Louisville Gas & Electric Company.

Description: Application for an order pursuant to Section 204 of the Federal Power Act authorizing LG&E to issue debt securities in an amount not exceeding $400 million.

Filed Date: 09/04/2007.

Accession Number: 20070906-0135.

Comment Date: 5 p.m. Eastern Time on Tuesday, September 25, 2007.

Docket Numbers: ES07-60-000.

Applicants: Kentucky Utilities Company.

Description: Kentucky Utilities Company submits an application for an order pursuant to Section 204 of the Federal Power Act authorizing them to issue debt securities in an amount not exceeding $400 million at a time.

Filed Date: 09/04/2007.

Accession Number: 20070906-0136.

Comment Date: 5 p.m. Eastern Time on Tuesday, September 25, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Acting Deputy Secretary.

[FR Doc. E7-18413 Filed 9-18-07; 8:45 am]

BILLING CODE 6717-01-P